DEPARTMENT OF ENERGY

Federal Energy Regulatory Commission

[Docket No. EC05-28-000, et al.]

Mesquite Investors, L.L.C., et al.; Electric Rate and Corporate Filings

December 30, 2004.

The following filings have been made with the Commission. The filings are listed in ascending order within each docket classification.

1. Mesquite Investors, L.L.C., Cedar Brakes I, L.L.C., Cedar Brakes II, L.L.C., El Paso Marketing, L.P., Okwari CB Holdings LP, and Constellation Energy Commodities Group, Inc.

[Docket No. EC05-28-000]

Take notice that on December 23, 2004, Mesquite Investors, L.L.C. (Mesquite), Cedar Brakes I, L.L.C. (CB I), Cedar Brakes II, L.L.C. (CB II), El Paso Marketing, L.P. (El Paso Marketing), Okwari CB Holdings LP (Okwari CB) and Constellation Energy Commodities Group, Inc. (CCG) (jointly, Applicants) filed with the Federal Energy Regulatory Commission an application pursuant to Section 203 of the Federal Power Act requesting that the Commission authorize: (i) The transfer of all of Mesquite's membership interests in CB I and CB II to Okwari CB; (ii) the subsequent sale and transfer of up to 51 percent of the membership interests thus obtained by Okwari CB to as yet unidentified purchasers; and (iii) the assignment of power purchase agreements from El Paso Marketing to CCG. Applicants requested privileged treatment for certain exhibits pursuant to 18 CFR 33.9 and 388.112. Applicants also requested expedited consideration of this Application.

Comment Date: 5 p.m. Eastern Time on January 13, 2005.

2. Detroit Edison Company, DTE Energy Trading, Inc., DTE Edison America, Inc., DTE Energy Marketing Inc., DTE Georgetown L.P., DTE River Rouge No. 1, L.L.C. and Crete Energy Venture, L.L.C.

[Docket Nos. ER97-324-007, ER97-3834-012, ER98-3026-008, ER99-3368-004, ER00-1746-002, ER00-1816-003 and ER02-963-004]

Take notice that on December 23, 2004, The Detroit Edison Company, DTE Energy Trading, Inc., DTE Edison America, Inc., DTE Energy Marketing, Inc., DTE Georgetown, L.P., DTE River Rouge No. 1, L.L.C., and Crete Energy Venture, L.L.C. (collectively, the DTE Parties) tendered for filing a joint market power update analysis in compliance with the Commission's order in Acadia Power Partners, L.L.C., 107 FERC ¶ 61,168 (2004).

The DTE Parties state that copies of the filing were served on parties on the official service lists in the above-captioned proceedings.

Comment Date: 5 p.m. Eastern Time on January 13, 2005.

3. Cleo Power LLC, Cleco Marketing & Trading LLC, Cleco Evangeline LLC and Perryville Energy Partners, LLC.

[Docket Nos. ER99-3855-003, ER99-2300-005, ER99-2928-002 and ER02-1406-004]

Take notice that on December 22, 2004, Cleco Power LLC, Cleco Evangeline LLC, and Perryville Energy Partners, LLC submitted generation market power screens and related analyses.

Comment Date: 5 p.m. Eastern Time on January 12, 2005.

4. Black Hills Colorado, LLC, Black Hills Wyoming, Inc., Black Hills Pepperell Power Associates, Inc., Black Hills Power, Inc., Fountain Valley Power, LLC, Harbor Cogeneration Company, LLC and Las Vegas Cogeneration II, LLC

[Docket Nos. ER00-1952-002, ER03-802-002, ER96-1635-009, ER99-2287-002, ER01-1784-005, ER99-1248-004 and ER03-222-004]

Take notice that on December 23, 2004, Black Hills Colorado, LLC, Black Hills Wyoming, Inc., Black Hills Pepperell Power Associates, Inc., Black Hills Power, Inc., Fountain Valley Power, LLC, Harbor Cogeneration Company, LLC, and Las Vegas Cogeneration II, LLC, filed with the Commission updated market power analyses.

Comment Date: 5 p.m. Eastern Time on January 13, 2005.

5. Pinnacle West Capital Corporation, Arizona Public Service Company, Pinnacle West Energy Corporation and APS Energy Services Company, Inc.

[Docket Nos. ER00-2268-008, ER99-4124-006, ER00-3312-007 and ER99-4122-009]

Take notice that on December 23, 2004, the Pinnacle West Capital Corporation (PWCC), the Arizona Public Service Company (APS), the Pinnacle West Energy Corporation (PWEC) and APS Energy Services Company, Inc. (APSES) (collectively, the Pinnacle West Companies), submitted a compliance filing pursuant to the Commission's order issued December 20, 2004 in Docket No. ER00-2268-005, et al., FERC ¶ 61,295 (2004).

Comment Date: 5 p.m. Eastern Time on January 13, 2005.

6. Entergy Services, Inc.,

[Docket No. ER04-35-003]

Take notice that on December 22, 2004, Entergy Services, Inc., on behalf of the Entergy Operating Companies, Entergy Arkansas, Inc., Entergy Gulf States, Inc., Entergy Louisiana, Inc., Entergy Mississippi, Inc., and Entergy New Orleans, Inc., tendered its compliance filing in response to the Commission's order in Entergy Services, Inc., 109 FERC ¶ 61,216 (2004).

Comment Date: 5 p.m. Eastern Time on January 12, 2005.

7. Southern California Edison Company

[Docket No. ER04-435-006]

Take notice that on December 23, 2004, Southern California Edison Company (SCE) tendered for filing revisions to its Wholesale Distribution Access Tariff (WDAT), FERC Electric Tariff, First Revised Volume No. 5, in compliance with the Commission's Order issued September 22, 2004 in Docket Nos. ER04-435-002 and ER04-435-004, 108 FERC ¶ 61,301.

SCE states that copies of this filing were served on parties on the official service list in the above-captioned proceeding.

Comment Date: 5 p.m. Eastern Time on January 13, 2005.

8. PJM Interconnection, L.L.C.

[Docket No. ER04-474-003]

Take notice that on December 22, 2004, PJM Interconnection, L.L.C. (PJM) submitted a substitute interconnection service agreement among PJM, Industrial Power Generating Corporation, and Monongahela Power Company, The Potomac Edison Company, and West Penn Power Company, all doing business as Allegheny Power consistent with PJM Interconnection, L.L.C., 109 FERC ¶ 61,030 (2004), issued on October 7, 2004 in Docket Nos. ER04-474-000 and ER04-474-001.

PJM states that copies of the filing were served on parties on the official service list in the above-captioned proceeding.

Comment Date: 5 p.m. Eastern Time on January 12, 2005.

9. Midwest Independent Transmission System Operator, Inc. and Public Utilities With Grandfathered Agreements in the Midwest ISO Region

[Docket Nos. ER04-691-014 and EL04-104-013]

Take notice that on December 22, 2004, the Midwest Independent Transmission System Operator, Inc. (Midwest ISO) submitted proposed revisions to the Midwest ISO's Open Access Transmission and Energy Markets Tariff (EMT), FERC Electric Tariff, Volume No. 1, and supplementary information and explanations concerning certain matters, in order to make typographical corrections and clarifying changes to the EMT.

The Midwest ISO has requested waiver of the service requirements set forth in 18 CFR 385.2010. The Midwest ISO states it has electronically served a copy of this filing, with attachments, upon all Midwest ISO Members, Member representatives of Transmission Owners and Non-Transmission Owners, the Midwest ISO Advisory Committee participants, as well as all state commissions within the region. Midwest ISO further states that in addition, the filing has been electronically posted on the Midwest ISO's Web site at www.midwestiso.org under the heading “Filings to FERC” for other interested parties in this matter. The Midwest ISO will provide hard copies to any interested parties upon request.

Comment Date: 5 p.m. Eastern Time on January 12, 2005.

10. CalPeak Power—Border, LLC, CalPeak Power—Enterprise, LLC and CalPeak Power—Vaca Dixon, LLC

[Docket Nos. ER05-302-001, ER05-303-001 and ER05-304-001]

Take notice that on December 22, 2004 CalPeak Power—Border, LLC (Border), CalPeak Power—Enterprise, LLC (Enterprise) and CalPeak Power—Vaca Dixon, LLC (Vaca Dixon) (collectively, CalPeak Entities), submitted for filing corrections to certain terms contained in schedules to the reliability must-run service agreements between Border and the California Independent System Operator Corporation (ISO), Enterprise and the ISO, and Vaca Dixon and the ISO, originally filed on December 6, 2004. CalPeak Entities request an effective date of January 1, 2005.

CalPeak Entities state that copies of the filing were served upon the ISO, San Diego Gas & Electric Company, Pacific Gas & Electric Company, the California Public Utilities Commission and the California Electricity Oversight Board.

Comment Date: 5 p.m. Eastern Time on January 12, 2005.

11. Michigan Electric Transmission Company, LLC

[Docket No. ER05-364-000]

Take notice that on December 21, 2004, Michigan Electric Transmission Company, LLC (METC) submitted an executed Cost Reimbursement Agreement between METC and Michigan Public Power Agency, an executed Cost Reimbursement Agreement between METC and Michigan South Central Power Agency, and an executed Cost Reimbursement Agreement between METC and Wolverine Power Supply Cooperative, Inc.

Comment Date: 5 p.m. Eastern Time on January 11, 2005.

12. Arroyo Energy LP

[Docket No. ER05-375-000]

Take notice that on December 21, 2004, as amended on December 23, 2004, Arroyo Energy LP (Arroyo) filed a notice of succession to notify the Commission that, as a result of a name change, Arroyo Energy LP has succeeded to the Rate Schedule FERC No. 1 of BS Energy LP.

Comment Date: 5 p.m. Eastern Time on January 13, 2005.

13. Southern California Edison Company

[Docket No. ER05-376-000]

Take notice that on December 23, 2004, Southern California Edison Company (SCE) submitted for filing a Service Agreement for Wholesale Distribution Service (WDAT Service Agreement), Service Agreement No. 133 under the Wholesale Distribution Access Tariff, FERC Electric Tariff, First Revised Volume No. 5, between SCE and the Metropolitan Water District of Southern California (MWD). The purpose of the WDAT Service Agreement is to specify the terms and conditions under which SCE will provide Wholesale Distribution Service from MWD's Small Hydro Facilities to the California Independent System Operator Controlled Grid.

SCE states that copies of the filing were served upon the Public Utilities Commission of the State of California and MWD.

Comment Date: 5 p.m. Eastern Time on January 13, 2005.

14. MidAmerican Energy Company

[Docket No. ER05-377-000]

Take notice that on December 23, 2004, MidAmerican Energy Company (MidAmerican), filed with the Commission a Network Integration Transmission Service Agreement and a Network Operating Agreement between MidAmerican Energy Company and the City of Buffalo, Iowa (Buffalo). MidAmerican requests an effective date of January 1, 2005, for these Agreements.

MidAmerican states it has served a copy of the filing on Buffalo, the Iowa Utilities Board, the Illinois Commerce Commission and the South Dakota Public Utilities Commission.

Comment Date: 5 p.m. Eastern Time on January 13, 2005.

15. Pacific Gas and Electric Company

[Docket No. ER05-378-000]

Take notice that on December 23, 2004, Pacific Gas and Electric Company (PG&E) submitted its Transmission Owner Tariff for the Transmission Access Charge Balancing Account. PG&E requests an effective date of April 1, 2005.

PG&E states that copies of the filing were served upon the California Public Utilities Commission.

Comment Date: 5 p.m. Eastern Time on January 13, 2005.

16. Southern California Edison Company

[Docket No. ER05-380-000]

Take notice that on December 23, 2004, Southern California Edison Company (SCE) submitted a Letter Agreement between SCE and the Southern California Water Company (SCWC). SCE states that the purpose of the Letter Agreement is to provide an interim arrangement pursuant to which SCE will commence the engineering, design and procurement of equipment and material for, and construction of certain additional facilities, as described in Exhibit A of the Letter Agreement, required in order for SCWC's generation plant to operate in parallel with SCE's electric system.

SCE states that copies of the filing were served upon the Public Utilities Commission of the State of California and SCWC.

Comment Date: 5 p.m. Eastern Time on January 13, 2005.

17. California Independent System

[Docket No. ER05-381-000 Operator Corporation]

Take notice that on December 23, 2004, the California Independent System Operator Corporation (ISO) tendered for filing revisions to the Transmission Control Agreement (TCA) for acceptance by the Commission. The ISO states that the purpose of the revisions are to: (1) Identify the transmission interests (i.e., the transmission facilities and Entitlements) that the City of Pasadena, California (Pasadena) will be turning over to the ISO's Operational Control, by including those interests in a new Appendix A to the TCA, (2) identify the Encumbrances associated with those interests, by listing the Encumbrances in a new Appendix B to the TCA; and (3) identify the persons to contact at Pasadena for notice purposes by expanding Appendix F to the TCA. The ISO requests an effective date of January 1, 2005.

The ISO states that this filing has been served upon the Public Utilities Commission of the State of California; the California Energy Commission; the California Electricity Oversight Board; Pacific Gas and Electric Company; San Diego Gas & Electric Company; Southern California Edison Company; the Cities of Anaheim, Azusa, Banning, and Riverside, California (the Southern Cities); the City of Vernon, California; Trans-Elect NTD Path 15, LLC; Western Area Power Administration—Sierra Nevada Region; Pasadena; and all parties with effective Scheduling Coordinator Agreements under the ISO Tariff. The ISO states it has posted this filing on the ISO Home Page.

Comment Date: 5 p.m. Eastern Time on January 13, 2005.

18. Southern California Edison Company

[Docket No. ER05-382-000]

Take notice that on December 23, 2004, Southern California Edison Company (SCE) submitted for filing a Service Agreement for Wholesale Distribution Service (WDAT Service Agreement), Service Agreement No. 134 under the Wholesale Distribution Access Tariff, FERC Electric Tariff, First Revised Volume No. 5, between SCE and The Metropolitan Water District of Southern California (MWD). SCE states that the purpose of the WDAT Service Agreement is to specify the terms and conditions under which SCE will provide Wholesale Distribution Service from MWD's Etiwanda Power Plant to the California Independent System Operator Controlled Grid.

SCE states that copies of the filing were served upon the Public Utilities Commission of the State of California and MWD.

Comment Date: 5 p.m. Eastern Time on January 13, 2005.

19. Port Washington Generating Station LLC

[Docket No. ER05-383-000]

Take notice that on December 23, 2004, Port Washington Generating Station LLC (PWGS) submitted for filing under section 205 of the Federal Power Act, a Power Purchase Agreement providing for sales of test power between PWGS and Wisconsin Electric Power Company. PWGS states that the test power provides the terms and conditions pursuant to which, prior to the commencement of commercial operations, PWGS will sell test power from its Port Washington Unit 1 facility to Wisconsin Electric.

PWGS states that copies of the filing were served upon the Public Service Commission of Wisconsin.

Comment Date: 5 p.m. Eastern Time on January 13, 2005.

20. Southern California Edison Company

[Docket No. ER05-384-000]

Take notice, that on December 23, 2004, Southern California Edison Company (SCE) tendered for filing notice of cancellation of its First Revised Rate Schedule FERC No. 292 and First Revised Rate Schedule FERC No. 318. SCE requests an effective date of January 1, 2005.

SCE states that copies of this filing were served upon the Public Utilities Commission of the State of California and the Metropolitan Water District of Southern California and Pacific Gas and Electric Company.

Comment Date: 5 p.m. Eastern Time on January 13, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-27 Filed 1-6-05; 8:45 am]

BILLING CODE 6717-01-P